DEPARTMENT OF THE TREASURY

Office of Foreign Assets Control

31 CFR Part 543

Removal of Côte d'Ivoire Sanctions Regulations

AGENCY: Office of Foreign Assets Control, Treasury.

ACTION: Final rule.

SUMMARY: The Department of the Treasury's Office of Foreign Assets Control (OFAC) is removing from the Code of Federal Regulations the Côte d'Ivoire Sanctions Regulations as a result of the termination of the national emergency on which the regulations were based.

DATES: Effective: November 13, 2017.

FOR FURTHER INFORMATION CONTACT: The Department of the Treasury's Office of Foreign Assets Control: Assistant Director for Licensing, tel.: 202/622-2480, Assistant Director for Regulatory Affairs, tel.: 202/622-4855, Assistant Director for Sanctions Compliance & Evaluation, tel.: 202/622-2490, or the Department of the Treasury's Office of the Chief Counsel (Foreign Assets Control), Office of the General Counsel, tel.: 202/622-2410.

SUPPLEMENTARY INFORMATION:

Electronic and Facsimile Availability

This document and additional information concerning OFAC are available from OFAC's Web site (www.treasury.gov/ofac).

Background

On February 7, 2006, the President issued Executive Order 13396, “Blocking Property of Certain Persons Contributing to the Conflict in Côte d'Ivoire” (E.O. 13396), in which the President declared a national emergency to deal with the unusual and extraordinary threat to the national security and foreign policy of the United States posed by the situation in or in relation to Côte d'Ivoire. That situation, which had been addressed by the United Nations Security Council in Resolution 1572 of November 15, 2004, and subsequent resolutions, had resulted in the massacre of large numbers of civilians, widespread human rights abuses, significant political violence and unrest, and attacks against international peacekeeping forces leading to fatalities. E.O. 13396 blocked all property and interests in property of the persons listed in the Annex to E.O. 13396 and any person determined to meet one or more of the criteria set out in E.O. 13396.

On April 13, 2009, OFAC issued the Persons Contributing to the Conflict in Côte d'Ivoire Sanctions Regulations, 31 CFR part 543 (the “Regulations”), as a final rule to implement E.O. 13396 (74 FR 16763, April 13, 2009). On July 21, 2009, OFAC issued an amendment to the Regulations to change the heading of the Regulations to the Côte d'Ivoire Sanctions Regulations (74 FR 35802, July 21, 2009). OFAC also amended the Regulations on February 8, 2012, to add a definition of a term used in the Regulations (77 FR 6463, Feb. 8, 2012).

On September 14, 2016, the President issued Executive Order 13739, “Termination of Emergency With Respect to the Situation in or in Relation to Côte d'Ivoire” (E.O. 13739). In E.O. 13739, the President found that the situation that gave rise to the declaration of a national emergency in E.O. 13396 with respect to the situation in or in relation to Côte d'Ivoire had been significantly altered by the progress achieved in the stabilization of Côte d'Ivoire, including the successful conduct of the October 2015 presidential election, progress on the management of arms and related materiel, and the combatting of illicit trafficking in natural resources. Accordingly, and in view of the removal of multilateral sanctions by the United Nations Security Council in Resolution 2283, the President terminated the national emergency and revoked E.O. 13396.

Therefore, OFAC is removing the Regulations from the Code of Federal Regulations. Pursuant to section 202 of the National Emergencies Act (50 U.S.C. 1622) and section 1 of E.O. 13739, termination of the national emergency declared in E.O. 13396 shall not affect any action taken or proceeding pending and not fully concluded or determined as of 8:00 a.m. eastern daylight time on September 14, 2016 (the effective date of E.O. 13739), any action or proceeding based on any act committed prior to the effective date, or any rights or duties that matured or penalties that were incurred prior to the effective date.

Public Participation

Because the Regulations involve a foreign affairs function, the provisions of Executive Order 12866 and the Administrative Procedure Act (5 U.S.C. 553) requiring notice of proposed rulemaking, opportunity for public participation, and delay in effective date, as well as the provisions of Executive Order 13771, are inapplicable. Because no notice of proposed rulemaking is required for this rule, the Regulatory Flexibility Act (5 U.S.C. 601-612) does not apply.

Paperwork Reduction Act

The Paperwork Reduction Act does not apply because this rule does not impose information collection requirements that would require the approval of the Office of Management and Budget under 44 U.S.C. 3501 et seq.

List of Subjects in 31 CFR Part 543

Administrative practice and procedure, Banks, Banking, Blocking of assets, Côte d'Ivoire, Credit, Foreign trade, Penalties, Reporting and recordkeeping requirements, Securities, Services.

For reasons set forth in the preamble, and under the authority of 3 U.S.C. 301; 50 U.S.C. 1601-1651; E.O. 13396, 71 FR 7389, 3 CFR, 2006 Comp., p. 209; E.O. 13739, 81 FR 63673 (September 16, 2016), OFAC amends 31 CFR chapter V as follows:

PART 543—[REMOVED]

1. Remove part 543.

Dated: November 7, 2017.
John E. Smith,
Director, Office of Foreign Assets Control.

[FR Doc. 2017-24521 Filed 11-9-17; 8:45 am]

BILLING CODE 4810-AL-P